DEPARTMENT OF HEALTH AND HUMAN SERVICES

Health Resources and Services Administration

Agency Information Collection Activities: Proposed Collection: Public Comment Request, Information Collection Request Title: The Maternal, Infant, and Early Childhood Home Visiting Program Performance Measurement Information System, OMB Number: 0906-0017—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 10, 2018.

ADDRESSES: Submit your comments to paperwork@hrsa.gov or mail the HRSA Information Collection Clearance Officer, 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: The Maternal, Infant, and Early Childhood Home Visiting Program Performance Measurement Information System, OMB Control Number: 0906-0017—Revision.

Abstract: This clearance request is for continued approval of the Maternal, Infant, and Early Childhood Home Visiting (MIECHV) Program Performance Measurement Information System. The MIECHV Program, administered by HRSA in partnership with the Administration for Children and Families, supports voluntary, evidence-based home visiting services during pregnancy women and to parents with young children up to kindergarten entry. States, certain non-profit organizations, and Tribal entities are eligible to receive funding from the MIECHV Program and have the flexibility to tailor the program to serve the specific needs of their communities. HRSA is revising the data collection forms for the MIECHV Program by making the following changes:

• Form 1: Update all tables to include specific guidance to account for and report missing data.

• Form 1, Tables 1 and 2: Update table titles to reflect “participants served by MIECHV.”

• Form 1, Table 5: Update to reflect correct age categories of “<1 year”; “1-2 years”; “3-4 years”; and “5-6 years.”

• Form 1, Table 8: Revise the category of “Never Married” to read “Never Married (excluding not married but living together with partner).”

• Form 1, Table 10: Delete.

• Form 1, Table 18: Delete.

• Form 1, Table 22: Revise to only include children greater than or equal to 12 months of age. Title will be updated to “Index Children (≥12 months of age) by Usual Source of Dental Care.”

• Form 1, Notes: Revise to include Table-specific notes.

• Form 1, Definition of Key Terms: Update definitions for Tables 1, 3, 5, 12, 13, 15, 17, 20, 21, and 22.

• Form 2: Update all measures to include specific guidance to account for and report missing data.

• Form 2, Measure 3: Update denominator to reflect correct inclusion criteria.

• Form 2, Measure 4: Update measure to benchmark receipt of well-child visits to specific ages.

• Form 2, Measure 9: Update numerator to clarify that investigated cases of maltreatment must have occurred within the reporting period.

• Form 2, Measure 10: Update denominator to clarify the appropriate unit of analysis is the index child.

• Form 2, Measure 14: Update measure to reflect current terminology and the timing within which screenings should be reported.

• Form 2, Measure 15: Update measure and numerator to include primary caregivers enrolled in middle school.

• Form 2, Measure 16: Update numerator to reflect correct inclusion criteria.

• Form 2, Measure 17: Update denominator to reflect correct inclusion criteria.

• Form 2, Measure 19: Update denominator to reflect correct inclusion criteria.

• Form 2, Definitions of Key Terms: Update definitions for measures 1-19.

HRSA is also requesting an extension of this information collection request through November 30, 2021.

Need and Proposed Use of the Information: HRSA uses performance information to demonstrate program accountability with legislative and program requirements and continuously monitor and provide oversight to MIECHV Program awardees. The information is also used to provide quality improvement guidance and technical assistance to awardees and help inform the development of early childhood systems at the national, state, and local level. HRSA is seeking to revise demographic, service utilization, and select clinical indicators for participants enrolled in home visiting services. In addition, HRSA will collect a set of standardized performance and outcome indicators that correspond with the statutorily identified benchmark areas. In the future, HRSA anticipates that MIECHV funding decisions may be allocated, in part, based on this data. This notice is subject to the appropriation of funds, and is a contingency action taken to ensure that, should funds become available for this purpose, information can be collected in a timely manner.

Likely Respondents: MIECHV Program awardees.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Form 1: Demographic, Service Utilization, and Select Clinical Indicators | 56 | 1 | 56 | 560 | 31,360
Form 2: Performance Indicators and Systems Outcome Measures | 56 | 1 | 56 | 200 | 11,200
Total | 56 |  | 56 |  | 42,560

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Acting Director, Division of the Executive Secretariat.

[FR Doc. 2018-02594 Filed 2-8-18; 8:45 am]

BILLING CODE 4165-15-P